ENVIRONMENTAL PROTECTION AGENCY

[EPA-HQ-ORD-2009-0645; FRL-9135-9]

Notice of Peer Review Meeting for the External Peer Review Drafts of Two Documents on Using Probabilistic Methods To Enhance the Role of Risk Analysis in Decision-Making

AGENCY: Environmental Protection Agency (EPA).

ACTION: Notice of Peer Review Meeting with Opportunity for Public Comment.

SUMMARY: EPA is announcing that Eastern Research Group, Inc. (ERG), an EPA contractor for external scientific peer review, will convene an independent panel of experts and organize and conduct an external peer review meeting to review two draft documents entitled, “Using Probabilistic Methods to Enhance the Role of Risk Analysis in Decision-Making, with Case Study Examples” and a “Managers' Summary” of the same document. The draft documents were prepared by the Agency's Risk Assessment Forum. The peer review meeting is scheduled to take place on May 6, 2010. On August 18, 2009, EPA announced a 15-day public comment period for the draft documents (74 FR 41695), and on September 17, 2009 extended the comment period to 60 days (74 FR 47794), thus closing the public comment period on October 16, 2009.

The public comment period and the external peer review are separate processes that provide opportunities for all interested parties to comment on the document. In addition to the opportunity provided for public comments through the EPA docket by the closing date of October 16, 2009, the public can provide comments for the external peer reviewers' consideration through the public meeting scheduled for May 6, 2010.

EPA is releasing this draft document solely for the purpose of pre-dissemination peer review under applicable information quality guidelines. This document has not been formally disseminated by EPA. It does not represent and should not be construed to represent any Agency policy or determination.

The public will be given an opportunity to observe and provide oral comments at this meeting by registering with the point of contact below (see HOW CAN I REQUEST TO PARTICIPATE IN THIS MEETING?). The draft document is available through the EPA docket at http://www.regulations.gov under Docket ID No. EPA-HQ-ORD-2009-0645. Additionally, the draft document and the charge questions for EPA's external peer review are available via the Internet on the Risk Assessment Forum's home page at http://www.epa.gov/raf/prawhitepaper.

In preparing a final report, EPA will consider the peer review report of the recommendations from the external peer review panel and any public comments that EPA receives in accordance with the Federal Register notices noted above on the document and at the public meeting.

DATES: The peer review meeting will be held on May 6, 2010 at 8:30 a.m., and will end approximately 4 p.m. Eastern Daylight Time. Registration for this peer review meeting is required (see HOW CAN I REQUEST TO PARTICIPATE IN THIS MEETING?). Members of the public will be allowed to make brief (no longer than 5 minutes) oral statements during the meeting's public comment period.

How Can I Request To Participate in This Meeting?

Members of the public may call into the meeting via teleconference as observers, and there will be a limited time for comments from the public. The peer-review meeting will be held at the Sheraton Crystal City Hotel, 1800 Jefferson Davis Highway, Arlington, Virginia 22202.

Space is limited, and reservations will be accepted on a first-come, first-served basis. A teleconference line will be available to registered observers if traveling is not an option. In order to participate, you should contact the EPA contractor, ERG, which is organizing, convening, and conducting the peer review meeting. To attend the meeting, register by April 29, 2010, by calling ERG at (781) 674-7374 or toll free at (800) 803-2833 (ask for the PRA peer review coordinator, Laurie Waite), sending a facsimile to (781) 674-2906 (please reference: “PRA Peer Review Meeting” and include your name, title, affiliation, full address and contact information), or sending an e-mail to meetings@erg.com (subject line: PRA Peer Review Meeting and include your name, title, affiliation, full address and contact information). You may also register via the Internet at https://www2.ergweb.com/projects/conferences/peerreview/register-pra.htm. When registering, please also indicate whether you would like to make a comment during the observer comment portion of the meeting. The call-in number for the peer review meeting will be: Telephone number: 1 (888) 346-3659; Pass Code: 87633#.

ADDRESSES: The drafts “Using Probabilistic Methods to Enhance the Role of Risk Analysis in Decision-Making, with Case Study Examples” and “Using Probabilistic Methods to Enhance the Role of Risk Analysis in Decision-Making-Managers' Summary” are available primarily via the Internet on the Risk Assessment Forum's home page at http://www.epa.gov/raf/prawhitepaper. A limited number of paper copies are available from the Risk Assessment Forum. If you are requesting a paper copy, please provide your name, mailing address, and the document title, to Dr. Kathryn Gallagher via the contact information below.

For technical information, please contact: Dr. Kathryn Gallagher, Executive Director of the Risk Assessment Forum, Mail Code 8105R, Environmental Protection Agency, 1200 Pennsylvania Avenue, NW., Washington, DC 20460; telephone number: (202) 564-1398; fax number: (202) 564-2070, E-mail: gallagher.kathryn@epa.gov.

SUPPLEMENTARY INFORMATION: Various stakeholders, inside and outside the Agency, have called for a more comprehensive characterization of risks, including uncertainties, in protecting more sensitive or vulnerable populations and life stages. Therefore, the Office of the Science Advisor of the EPA, together with EPA's Science Policy Council and members of EPA's Risk Assessment Forum (RAF), identified a need to examine the use of probabilistic approaches in Agency risk assessment and risk management. An RAF Technical Panel developed this White Paper and the Managers' Summary to provide a general overview of the value of probabilistic analyses and similar or related methods, and some examples of current applications across the Agency. The purpose of these papers is not only to describe potential and actual uses of these tools in the risk decision process, but also to encourage their further implementation in human, ecological, and environmental risk analysis and related decision making. The enhanced use of probabilistic analyses to characterize uncertainty in assessments would not only reflect external scientific advice on how to further advance EPA risk assessment science, but will also help to address specific challenges faced by managers and improve confidence in Agency decisions. The draft document was prepared by the Probabilistic Risk Analysis Technical Panel of EPA's Risk Assessment Forum and has undergone internal peer review at EPA.

Dated: April 5, 2010.
Paul T. Anastas,
EPA Science Advisor.

[FR Doc. 2010-8127 Filed 4-8-10; 8:45 am]

BILLING CODE 6560-50-P